DEPARTMENT OF THE TREASURY

Internal Revenue Service

Special Enrollment Examination Advisory Committee

AGENCY: Internal Revenue Service, Office of Director of Practice, Treasury.

ACTION: Notice of invitation to submit nominations for advisory committee membership.

SUMMARY: The Director of Practice invites individuals and organizations to nominate candidates for membership on the Special Enrollment Examination Advisory Committee.

DATES: Submit nominations on or before January 22, 2001.

ADDRESSES: Mail, fax, or e-mail nominations to: Internal Revenue Service; Office of Director of Practice; N:C:SC; Attn: Kathy Hughes; 1111 Constitution Avenue, NW, Washington, DC 20224; fax number 202-694-1934; e-mail Kathy.E.Hughes@IRS.Gov.

FOR FURTHER INFORMATION CONTACT: Kathy Hughes, Designated Federal Officer, Special Enrollment Examination Advisory Committee, at 202-694-1851 or Kathy.E.Hughes@IRS.Gov.

SUPPLEMENTARY INFORMATION: The Special Enrollment Examination Advisory Committee (“SEEAC”), which was formerly known as the “Advisory Committee on the Special Enrollment Examination,” was established in 1999 under the terms of the Federal Advisory Committee Act, 5 U.S.C. App. The SEEAC's charter expires February 5, 2001. It is expected that the SEEAC will be renewed for another two-year period. Therefore, the Director of Practice invites individuals and organizations to nominate candidates for membership.

Section 330 of 31 U.S.C. authorizes the Secretary of the Treasury to require that representatives before the Department demonstrate their “competency to advise and assist persons in presenting their cases.” Pursuant to that statute, the Secretary has promulgated the regulations governing practice before the Internal Revenue Service, which are found at 31 CFR part 10 and are separately published in pamphlet form as Treasury Department Circular No. 230 (to order call 1-800-829-3676).

The regulations provide that enrolled agents are among the classes of individuals eligible to practice before the Internal Revenue Service. The regulations also authorize the Director of Practice to pass upon applications for enrollment and to grant enrollment to applicants who demonstrate special competence in tax matters by written examination administered by the Internal Revenue Service. This written examination is the Special Enrollment Examination (“SEE”). More information concerning the SEE may be found on the Director of Practice Webpage: (1) Go to IRS Digital Daily, www.irs.gov; (2) at he bottom of the page, click Tax Info For Business; (3) click Tax Professionals' Corner; and (4) click Director of Practice, Enrolled Agent Program.

The objective of the SEEAC is to propose, on an annual basis, an examination testing the special competence in Federal tax matters of individuals who have applied for enrolled agent status. In meeting this objective, non-Federal members of the SEEAC shall represent the various segments of the tax practitioner community. The SEEAC's advisory functions will include, but will not necessarily be limited to: (1) Considering areas of Federal tax knowledge that should be treated on the examination; (2) developing examination questions; and (3) recommending passing scores.

FACA mandates that the membership of the Committee be fairly balanced in terms of the points of view presented and the functions to be performed. To that end, the Director of Practice will consider nominations of all individuals who: (1) Are qualified to represent the views of a segment of the tax practitioner community; (2) possess professional or academic accomplishments sufficient to allow contributions to the SEEAC's advisory functions; (3) are of good character and good reputation; and (4) are in compliance with the Federal tax laws. Current or former status as an enrolled agent is not a requirement for SEEAC membership.

Individuals may nominate themselves; an individual may nominate other individuals; or professional associations or other organizations may nominate individuals. A nomination may be in any format, but it must include: (1) A statement of which segment of the tax practitioner community the nominee is qualified to represent; (2) a description of the nominee's professional accomplishments, academic accomplishments, or both; and (3) a statement that the nominee is willing to accept an appointment to the SEEAC. Nominations may include copies of articles from professional journals or other relevant publications, but such items cannot be returned.

Appointment to the Committee will be for a two-year term, providing that a member continues to fulfill his or her Committee responsibilities. The Committee is expected to meet up to four times a year. Members should be prepared to devote from 125 to 175 hours per year, including meetings, to the Committee's work. Members will be reimbursed, in accordance with Government regulations, for expenses (transportation, meals, and lodging) incurred in connection with Committee meetings.

If the SEE is to provide objective and fair indicia of special competence in Federal taxation, the SEE's specific topics and questions must not become publicly available prior to administration of the examination. Consequently, sessions of SEEAC meetings dealing with specific SEE topics and questions will be closed to public participation. With respect to such closed sessions, SEEAC members must be prepared to maintain the confidentiality of their deliberations and advice.

Dated: December 13, 2000.
Patrick W. McDonough,
Director of Practice.

[FR Doc. 00-32483 Filed 12-20-00; 8:45 am]

BILLING CODE 4830-01-P